DEPARTMENT OF COMMERCE

International Trade Administration

[A-427-820]

Notice of Extension of Time Limit for Preliminary Results in Antidumping Duty Administrative Review: Stainless Steel Bar From France

AGENCY: Import Administration, International Trade Administration, Department of Commerce.

EFFECTIVE DATE: November 2, 2007.

FOR FURTHER INFORMATION CONTACT: David Goldberger at (202) 482-4136, Import Administration, AD/CVD Operations, Office 2, International Trade Administration, U.S. Department of Commerce, 14th Street and Constitution Avenue, NW., Washington, DC, 20230.

Extension Of Time Limit For Preliminary Results

On April 27, 2007, the Department of Commerce (the Department) published a notice of initiation of administrative reviews of antidumping duty orders that included the antidumping duty order on stainless steel bar from France, covering the period March 1, 2006, through February 28, 2007. See Initiation of Antidumping and Countervailing Duty Administrative Reviews, 72 FR 20986 (April 27, 2007). Pursuant to section 751(a)(3)(A) of the Tariff Act of 1930, as amended (the Act), the Department shall make a preliminary determination in an administrative review of an antidumping duty order within 245 days after the last day of the anniversary month of the date of publication of the order. The Act further provides, however, that the Department may extend that 245-day period to up to 365 days if it determines it is not practicable to complete the review within the foregoing time period.

The preliminary results of the administrative review of the antidumping duty order on stainless steel bar from France are currently scheduled to be completed on December 1, 2007. However, the Department finds that it is not practicable to complete the preliminary results in this administrative review within this time limit because additional time is needed to fully analyze the sales and cost-of-production questionnaire responses and supplemental questionnaire responses submitted by the respondent, and to conduct verifications of these responses.

Therefore, in accordance with section 751(a)(3)(A) of the Act, the Department is extending the time limit for completion of the preliminary results of this review by 120 days to March 30, 2008. Because March 30, 2008, falls on a non-business day, the Department will complete the preliminary results of this review no later than March 31, 2008, which is the next business day after the 120-day extension period. The final results continue to be due 120 days after the publication of the preliminary results.

This notice is published pursuant to sections 751(a)(3)(A) and 777(i)(1) of the Act and 19 CFR 351.213(h)(2).

Dated: October 29, 2007.
Stephen J. Claeys,
Deputy Assistant Secretary for Import Administration.

[FR Doc. E7-21625 Filed 11-1-07; 8:45 am]

BILLING CODE 3510-DS-S